DEPARTMENT OF TRANSPORTATION

Federal Aviation Administration

Notice of Opportunity for Public Comment on Surplus Property Release at Manteo Airport, Manteo, North Carolina

AGENCY: Federal Aviation Administration (FAA), DOT.

ACTION: Notice.

SUMMARY: Under the provisions of Title 49, U.S.C. section 47153(d), notice is being given that the FAA is considering a request from the Dare County Airport Authority to waive the requirement that a 1.123 acre parcel of surplus property, located at the Manteo Airport, be used for aeronautical purposes.

DATES: Comments must be received on or before November 15, 2004.

ADDRESSES: Comments on this notice may be mailed or delivered in triplicate to the FAA at the following address: Atlanta Airports District Office, 1701 Columbia Ave., Campus Building, Suite 2-260, College Park, GA 30337.

In addition, one copy of any comments submitted to the FAA must be mailed or delivered to Ms. Norma Mills, Dare County Attorney, at the following address: County of Dare, P.O. Box 1000, Manteo, NC 27954.

FOR FURTHER INFORMATION CONTACT: Rusty Nealis, Program Manager, Atlanta Airports District Office, 1701 Columbus Ave., Campus Bldg., Suite 2-260, College Park, GA 30337, (404) 305-7142. The application may be reviewed in person at this same location.

SUPPLEMENTARY INFORMATION: The FAA is reviewing a request by Dare County Airport Authority to release 1.123 acres of surplus property at the Manteo Airport. The property will be exchanged for private property which is needed for the expansion of the Manteo Elementary School. The Dare County Board of Commissioners will provide funds equivalent to the fair market value of the land to the Dare County Airport Authority. These funds will be used for airport purposes only. The property fronts Driftwood Drive and is adjacent to existing Dare County facilities.

Any person may inspect the request in person at the FAA office listed above under FOR FURTHER INFORMATION CONTACT. In addition, any person may, upon request, inspect the request, notice and other documents germane to the request in person at the Dare County Attorney's Office.

Issued in Atlanta, Georgia on October 5, 2004.
Scott L. Seritt,
Manager, Atlanta Airports District Office, Southern Region.

[FR Doc. 04-23071 Filed 10-13-04; 8:45 am]

BILLING CODE 4910-13-M